DEPARTMENT OF AGRICULTURE

Forest Service

White Pass Ski Area Expansion, Okanogan-Wenatchee and Gifford Pinchot National Forests, Yakima and Lewis Counties, Washington

AGENCY: Forest Service, USDA.

ACTION: Notice of intent to prepare an environmental impact statement.

SUMMARY: The Forest Service, USDA, will prepare an environmental impact statement (EIS) to analyze and disclose the environmental impacts of a site-specific proposal to modify the present special use permit of the White Pass Company, current operator of the White Pass Ski Area. This modification would authorize expansion into approximately 300 acres in Pigtail Basin, located between the current permit area and Hogback Basin, for the purpose of providing additional skiing opportunities. This action is proposed in response to an application by the White Pass Company to expand the permit area on the Cowlitz Valley Ranger District of the Gifford Pinchot National Forest. The Naches Ranger District of the Okanogan-Wenatchee National Forests administers the current White Pass Company permit. The proposed action is at White Pass, Washington, approximately 50 miles west of the city of Yakima. The purpose of the EIS will be to develop and evaluate a range of alternatives, including a No Action alternative and possible additional alternatives, to respond to issues identified during the scoping process. The proposed project will be in compliance with the direction in the Wenatchee and Gifford Pinchot National Forest Land and Resource Management Plans (1990), as amended by the Northwest Forest Pan (1994), which provide the overall guidance for management of the area. The Agency invites written comments on the scope of this project. In addition, the agency gives notice of this analysis so that interested and affected people are aware of how they may participate and contribute to the final decision.

ADDRESSES: Submit written comments and suggestions to Sonny J. O'Neal, Forest Supervisor, Okanogan-Wenatchee National Forests, 215 Melody Lane, Wenatchee, Washington 98801, Attn: White Pass Ski Area Expansion.

FOR FURTHER INFORMATION CONTACT: Questions and comments about this EIS should be directed to Randall Shepard, District Ranger, Naches Ranger District, 10061 Highway 12, Naches, WA 98937; Phone 509-653-2205.

SUPPLEMENTARY INFORMATION: The Okanogan-Wenatchee National Forests are initiating this action in response to an ongoing request by the White Pass Company to expand their current ski area permit boundary.

This is White Pass Company's third request to expand the skiing opportunities at White Pass. The first proposal was submitted after passage of the Washington Wilderness Act of 1984, which withdrew the area in question from Wilderness for the express purpose of study for its ski development potential. Subsequent litigation regarding the Forest's decision to authorize the expansion, in combination with concerns regarding new wildlife information, led to withdrawal of that decision by the Wenatchee National Forest Supervisor in 1992.

In 1998, the analysis for a second, smaller scale proposal for expansion was documented in an Environmental Impact Statement and a Record of Decision authorizing the expansion was issued. In a subsequent lawsuit, the U.S. District Court, Western District of Washington, rules against the Forest Service on two grounds and the ROD was again withdrawn.

This current proposal has been developed following (1) a review and understanding of the issues raised during the previous EIS attempt; (2) the review of current and updated environmental standards such as the amended Northwest Forest Plan direction, Aquatic Conservation Strategy, and the Interim Direction for Roadless Area Protection; (3) recent discussions with interested groups regarding the proposed action and alternatives; and (4) the continued search for an expansion location that best fits into the social, cultural, environmental and skier needs.

A range of alternatives will be considered, including a No Action Alternative. Other alternatives will be developed in response to issues received during scoping. Preliminary issues that have been identified include the potential effects on the following: Inventoried roadless area, riparian areas, Pacific Crest Trail, backcountry winter recreation opportunities, scenery, heritage resources, wildlife habitat, air quality, socioeconomics, and the cumulative effects of the proposed action on existing uses within the current permit area.

Continued public participation will be especially important at several points during the analysis. The Forest Service will be seeking information, comments, and assistance from Federal, State, and local agencies, Tribes, and other organizations and individuals who may be interested in or affected by the proposed actions. This information will be used in preparation of the draft EIS. The scoping process includes:

1. Identifying potential issues.

2. Identifying issues to be analyzed in depth.

3. Eliminating insignificant issues or issues which have been covered by a relevant previous environmental process.

4. Exploring additional alternatives.

5. Identifying potential environmental effects of the proposed action and alternatives (i.e., direct, indirect and cumulative effects and connected actions).

6. Determining potential cooperating agencies and task assignments. Comments received in response to this notice, including names and addresses of those who comment, will be considered part of the public record on this Proposed Action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days.

The draft EIS is expected to be filed with the Environmental Protection Agency (EPA) and to be available for review in June 2002. The EPA will publish a notice of availability of the draft EIS in the Federal Register. The comment period on the draft EIS will be 45 days from the date the EPA notice appears in the Federal Register. At that time, copies of the draft EIS will be distributed to interested and affected agencies, organizations, Tribes, and members of the public for their review and comment. It is very important that those interested in the management of the Okanogan-Wenatchee and Gifford Pinchot National Forests participate at that time.

The Forest Service believes it is important, at this early stage, to give reviewers notice of several court rulings related to public participation in the environmental review process. First, reviewers of a draft EIS must structure their participation in the environmental review of the proposal so that it is meaningful and alerts an agency to the reviewer's position and connections. Vermont Yankee Nuclear Power Corp. v. NRDC, 435 U.S. 519, 553 (1978). Also, environmental objections that could be raised at the draft EIS stage, but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final EIS.

To assist the Forest Service in identifying and considering issues and concerns on the proposed action, comments on the draft EIS should be as specified as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

The final EIS is scheduled to be completed no later than September 2002. In the final EIS, the Forest Service is required to respond to comments and responses received during the comment period that pertain to the environmental consequences discussed in the draft EIS and applicable laws, regulations and policies considered in making the decision regarding this proposal.

Sonny J. O'Neal, Forest Supervisor, Okanogan-Wenatchee National Forests, and Claire Lavendel, Forest Supervisor, Gilfford Pinchot National Forest, are the responsible officials. As the responsible officials, they will document the decision and reasons for the decision in the record of decision. That decision will be subject to Forest Service appeal regulation (36 CFR part 215).

Dated: January 25, 2002.
Sonny J. O'Neal,
Forest Supervisor, Okanogan-Wenatchee National Forests.

[FR Doc. 02-3604 Filed 2-13-02; 8:45 am]

BILLING CODE 3410-11-M